DEPARTMENT OF COMMERCE

National Oceanic and Atmospheric Administration

[I.D. 090106B]

Marine Mammals; File No. 1070-1783

AGENCY: National Marine Fisheries Service (NMFS), National Oceanic and Atmospheric Administration (NOAA), Commerce.

ACTION: Notice; issuance of permit amendment.

SUMMARY: Notice is hereby given that a permit held by Dr. Alejandro Acevedo-Gutierrez, Biology Department, Western Washington University, Bellingham, Washington (File No. 1070-1783) to conduct scientific research on harbor seals (Phoca vitulina) has been amended.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Northwest Region, NMFS, 7600 Sand Point Way NE, BIN C15700, Bldg. 1, Seattle, WA 98115-0700; phone (206)526-6150; fax (206)526-6426.

FOR FURTHER INFORMATION CONTACT: Tammy Adams or Amy Sloan, (301)713-2289.

SUPPLEMENTARY INFORMATION: On June 29, 2006, notice was published in the Federal Register (71 FR 37060) that an amendment to Permit No. 1070-1783-00 had been requested by the above named individual. The requested amendment has been issued under the authority of the Marine Mammal Protection Act of 1972, as amended (16 U.S.C. 1361 et seq.), and the Regulations Governing the Taking and Importing of Marine Mammals (50 CFR part 216).

The permit has been amended to increase the number of harbor seals that may be harassed annually during scat collection and to add a sampling location. The objective of the research remains the same: to study temporal and spatial variation in numbers and diet composition of harbor seals to determine responses of harbor seals to changes in prey density and the impact of seal behavior on marine protected areas. The permit remains valid through March 2011.

In compliance with the National Environmental Policy Act of 1969 (42 U.S.C. 4321 et seq.), a final determination has been made that issuance of the proposed permit is categorically excluded from the requirement to prepare an environmental assessment or environmental impact statement.

Dated: September 5, 2006.
P. Michael Payne,
Chief, Permits, Conservation and Education Division, Office of Protected Resources, National Marine Fisheries Service.

[FR Doc. E6-14997 Filed 9-8-06; 8:45 am]

BILLING CODE 3510-22-S